DEPARTMENT OF HEALTH AND HUMAN SERVICES

Centers for Disease Control and Prevention

Disease, Disability, and Injury Prevention and Control Special Emphasis Panels (SEP): In-Country Development of H5N1 Influenza Vaccines in Vietnam, Program Announcement Number CI06-008

In accordance with section 10(a)(2) of the Federal Advisory Committee Act (Pub. L. 92-463), the Centers for Disease Control and Prevention (CDC) announces the following meeting:

Name: Disease, Disability, and Injury Prevention and Control Special Emphasis Panel (SEP): In-Country Development of H5N1 Influenza Vaccines in Vietnam, Program Announcement Number CI06-008.

Times and Dates: 11 a.m.-1 p.m., January 23, 2006 (Closed).

Place: Teleconference.

Status: The meeting will be closed to the public in accordance with provisions set forth in section 5523b(c)(4) and (6), Title 5 U.S.C., and the Determination of the Director, Management Analysis and Services Office, CDC, pursuant to Public Law 92-463.

Matters to be Discussed: The meeting will include the review, discussion, and evaluation of applications received in response to: In-Country Development of H5N1 Influenza Vaccines in Vietnam, Program Announcement Number CI06-008.

FOR FURTHER INFORMATION CONTACT: Mary Lerchen, Dr.P.H., Associate Director, Office of Public Health Research, Centers for Disease Control and Prevention, 1600 Clifton Road, NE., Mailstop D-72, Atlanta, GA 30030, Telephone (404) 639-4897.

The Director, Management Analysis and Services Office, has been delegated the authority to sign Federal Register notices pertaining to announcements of meetings and other committee management activities, for both CDC and the Agency for Toxic Substances and Disease Registry.

Dated: December 30, 2005.
Alvin Hall,
Director, Management Analysis and Services Office, Centers for Disease Control and Prevention.

[FR Doc. 06-98 Filed 1-5-06; 8:45 am]

BILLING CODE 4163-18-M